NATIONAL TRANSPORTATION SAFETY BOARD

Strategic Management Program; Fiscal Year 2013-2016 Strategic Plan

AGENCY: National Transportation Safety Board.

ACTION: Notice: Request for comments.

SUMMARY: This notice is in accordance with OMB Circular A-11, Section 210.3(b), Consultation and Outreach, which requires that the NTSB solicits comments on the proposed strategic plan to be published by October 2012. All interested parties are invited to submit comments regarding this proposed strategic plan.

As background, the NTSB's 2010-2015 strategic plan was published in January 2010. This document updates that plan, incorporating a revised mission statement, expanded core values including diversity and inclusion in the workplace, streamlined strategic goals and objectives, and updated key priority performance indicators to measure overall success of agency objectives.

You can view a copy of the draft strategic plan on the NTSB Web site at http://www.ntsb.gov/doclib/agency_reports/Strategic-Plan_2013-2016.pdf.

DATES: Parties should submit comments on or before September 19, 2012.

ADDRESSES: Submit electronic comments to strategicplan@ntsb.gov or at http://regulations.gov. Submit written comments by regular mail to the National Transportation Safety Board, 490 L'Enfant Plaza SW., Washington, DC 20594. Attn: MD-1, Strategic Management Program.

FOR FURTHER INFORMATION CONTACT: Agency contact, Shamicka Fulson, Program Manager, Strategic Management Program; National Transportation Safety Board, 490 L'Enfant Plaza SW., MD-1, Washington, DC 20594, 202-314-6082.

SUPPLEMENTARY INFORMATION: * * *

Candi R. Bing,
Federal Register Liaison Officer.

[FR Doc. 2012-21820 Filed 9-4-12; 8:45 am]

BILLING CODE 7533-01-P